DEPARTMENT OF LABOR

Employment and Training Administration

[TA-W-61,999]

Geneon Entertainment (USA), Inc.; Formerly Known As Pioneer Entertainment; Long Beach, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 13, 2007, applicable to workers of Geneon Entertainment (USA), Inc., Long Beach, California. The notice was published in the Federal Register on September 27, 2007 (72 FR 54939).

At the request of the State agency, the Department reviewed the certification for workers of the subject firm. The workers are engaged in the production of DVD masters.

New information shows that the subject firm originally named Pioneer Entertainment, was renamed Geneon Entertainment (USA), Inc. due to a change in ownership in late 2003. Workers separated from employment at the subject firm had their wages reported under a separate unemployment insurance (UI) tax account for Pioneer Entertainment.

Accordingly, the Department is amending the certification to properly reflect this matter.

The intent of the Department's certification is to include all workers of Geneon Entertainment (USA), Inc., Long Beach, California, who were adversely affected by a shift in production of DVD masters to China.

The amended notice applicable to TA-W-61,999 is hereby issued as follows:

All workers of Geneon Entertainment (USA) Inc., formerly known as Pioneer Entertainment, Long Beach, California, who became totally or partially separated from employment on or after August 13, 2006, through September 13, 2009, are eligible to apply for adjustment assistance under Section 223 of the Trade Act of 1974, and are also eligible to apply for alternative trade adjustment assistance under Section 246 of the Trade Act of 1974.

Signed at Washington, DC this 6th day of March 2008.
Linda G. Poole,
Certifying Officer, Division of Trade Adjustment Assistance.

[FR Doc. E8-5226 Filed 3-14-08; 8:45 am]

BILLING CODE 4510-FN-P